ENVIRONMENTAL PROTECTION AGENCY

[EPA-HQ-OECA-2014-0068; FRL-9923-46-OEI]

Information Collection Request Submitted to OMB for Review and Approval; Comment Request; NESHAP for Primary Lead Smelters (Renewal)

AGENCY: Environmental Protection Agency (EPA).

ACTION: Notice.

SUMMARY: The Environmental Protection Agency has submitted an information collection request (ICR), “NESHAP for Primary Lead Smelters (40 CFR part 63, subpart TTT) (Renewal)” (EPA ICR No. 1856.10, OMB Control No. 2060-0414) to the Office of Management and Budget (OMB) for review and approval in accordance with the Paperwork Reduction Act (44 U.S.C. 3501 et seq.). This is a proposed extension of the ICR, which is currently approved through February 28, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 27, 2015.

ADDRESSES: Submit your comments, referencing Docket ID Number EPA-HQ-OECA-2014-0068, to (1) EPA online using www.regulations.gov (our preferred method), by email to docket.oeca@epa.gov, or by mail to: EPA Docket Center, Environmental Protection Agency, Mail Code 28221T, 1200 Pennsylvania Ave., NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave., NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave., NW., Washington, DC. The telephone number for the Docket Center is 202-566-1744. For additional information about EPA's public docket, visit http://www.epa.gov/dockets.

Abstract: The NESHAP is applicable to primary lead processing facilities that are engaged in the production of lead metal from lead sulfide ore concentrate. The final amendment establishes new emission limits, revises testing, reporting, and recordkeeping requirements. Sources subject to the NESHAP are required to comply with the stack testing, monitoring, reporting, and recordkeeping requirements of the standard.

Form Numbers: None.

Respondents/affected entities: Owners and operators of primary lead smelting facilities.

Respondent's obligation to respond: Mandatory (40 CFR part 63, subpart TTT).

Estimated number of respondents: 1 (total).

Frequency of response: Initially, quarterly and semiannually.

Total estimated burden: 6,265 hours (per year). Burden is defined at 5 CFR 1320.3(b).

Total estimated cost: $782,379 (per year), includes $169,000 annualized capital or operation & maintenance costs.

Changes in the Estimates: There is an overall decrease in the respondent and Agency burden and cost from the OMB Inventory of Approved Burdens. The currently approved burden is the cumulative burden and cost from EPA ICR Number 1856.06 (existing rule) and EPA ICR Number 1856.08 (2011 amendment). In this ICR renewal, we have combined the two ICRs to reflect current rule requirements and removed duplicate items. In addition, this ICR renewal reflects a decrease in the number of respondents from two to one since EPA ICR Number 1856.06. We have assumed that there are an estimated one respondent subject to NSPS Subpart TTT since rule is still in effect. These changes result in an apparent decrease in labor hours and costs.

Courtney Kerwin,
Acting Director, Collection Strategies Division.

[FR Doc. 2015-03901 Filed 2-24-15; 8:45 am]

BILLING CODE 6560-50-P